ENVIRONMENTAL PROTECTION AGENCY

40 CFR Parts 85, 86, 1036, 1037, 1065, 1066, and 1068

DEPARTMENT OF TRANSPORTATION

National Highway Traffic Safety Administration

49 CFR Parts 523, 534, and 535

[EPA-HQ-OAR-2010-0162; NHTSA-2010-0079; FRL-9219-2]

RIN 2060-AP61; RIN 2127-AK74

Public Hearings for Greenhouse Gas Emissions Standards and Fuel Efficiency Standards for Medium- and Heavy-Duty Engines and Vehicles

AGENCIES: Environmental Protection Agency (EPA) and National Highway Traffic Safety Administration (NHTSA).

ACTION: Notice of public hearings.

SUMMARY: EPA and NHTSA are announcing public hearings to be held for the joint proposed rules “Greenhouse Gas Emissions Standards and Fuel Efficiency Standards for Medium- and Heavy-Duty Engines and Vehicles,” which will be published in the near future in the Federal Register. The agencies will also accept comment on NHTSA's Draft Environmental Impact Statement. Two hearings will be held, on November 15 and 18, 2010.

DATES: NHTSA and EPA will jointly hold a public hearing on Monday, November 15, 2010, beginning at 11 a.m. local time, and a second hearing on Thursday, November 18, 2010, beginning at 10 a.m. local time. EPA and NHTSA will make every effort to accommodate all speakers that arrive and register. Each hearing will continue until 5 p.m. or until everyone has had a chance to speak. If you would like to present oral testimony at one of these public hearings, please contact the person identified under FOR FURTHER INFORMATION CONTACT, at least ten days before the hearing.

ADDRESSES: The November 15 hearing will be held at the Millennium Knickerbocker Hotel Chicago, 163 East Walton Place (at N. Michigan Ave.), Chicago, Illinois 60611. The November 18, 2010 hearing will be held at the Hyatt Regency Cambridge, 575 Memorial Drive, Cambridge, Massachusetts 02139-4896. The hearings will be held at sites accessible to individuals with disabilities.

FOR FURTHER INFORMATION CONTACT: If you would like to present oral testimony at a public hearing, please contact Julia MacAllister at EPA by the date specified under DATES, at: Office of Transportation and Air Quality, Assessment and Standards Division (ASD), Environmental Protection Agency, 2000 Traverwood Drive, Ann Arbor, MI 48105; telephone number: (734) 214-4131; fax number: (734) 214-4050; e-mail address: macallister.julia@epa.gov (preferred method for registering), or Assessment and Standards Division Hotline; telephone number; (734) 214-4636; e-mail: asdinfo@epa.gov. Please provide the following information: Time you wish to speak (morning, afternoon), name, affiliation, address, e-mail address, and telephone and fax numbers, and whether you require accommodations such as a sign language interpreter.

Questions concerning the proposed rules should be addressed to NHTSA: Rebecca Yoon, Office of Chief Counsel, National Highway Traffic Safety Administration, 1200 New Jersey Avenue, SE., Washington, DC 20590. Telephone: (202) 366-2992. EPA: Lauren Steele, Office of Transportation and Air Quality, Assessment and Standards Division (ASD), Environmental Protection Agency, 2000 Traverwood Drive, Ann Arbor, MI 48105; telephone number: (734) 214-4788; fax number: (734) 214-4816; e-mail address: steele.lauren@epa.gov, or Assessment and Standards Division Hotline; telephone number; (734) 214-4636; e-mail: asdinfo@epa.gov. You may learn more about the proposal by visiting NHTSA's or EPA's Web pages at http://www.nhtsa.gov/fuel-economy or http://www.epa.gov/otaq/climate/regulations.htm or by searching the rulemaking dockets (NHTSA-2010-0079; EPA-HQ-OAR-2010-0162) at http://www.regulations.gov.

SUPPLEMENTARY INFORMATION: The purpose of the public hearings is to provide the public an opportunity to present oral comments regarding NHTSA and EPA's proposal for “Greenhouse Gas Emissions Standards and Fuel Efficiency Standards for Medium- and Heavy-Duty Engines and Vehicles.” These hearings also offer an opportunity for the public to provide oral comments regarding NHTSA's draft Environmental Impact Statement, accompanying the proposed NHTSA fuel efficiency standards. The proposed rules would establish a comprehensive Heavy-Duty National Program that will reduce greenhouse gas emissions and increase fuel efficiency for on-road heavy-duty vehicles. NHTSA's proposed fuel consumption standards and EPA's proposed carbon dioxide (CO2) emissions standards would be tailored to each of three regulatory categories: (1) Combination Tractors; (2) Heavy-duty Pickup Trucks and Vans; and (3) Vocational Vehicles, as well as gasoline and diesel heavy-duty engines. EPA's proposed hydrofluorocarbon emissions standards would apply to air conditioning systems in tractors, pickup trucks, and vans, and EPA's proposed nitrous oxide (N2O) and methane (CH4) emissions standards would apply to all heavy-duty engines, pickup trucks, and vans. The proposal also includes a request for comment on possible alternative CO2-equivalent approaches for light-duty vehicles in model years 2012-14.

The proposal for which EPA and NHTSA are holding the public hearings will be published in the near future in the Federal Register and is available at the Web pages listed above under FOR FURTHER INFORMATION CONTACT and also in the rulemaking dockets. NHTSA's draft Environmental Impact Statement is available on the NHTSA Web page and in NHTSA's rulemaking docket, both referenced above. Once NHTSA and EPA learn how many people have registered to speak at each public hearing, we will allocate an appropriate amount of time to each participant, allowing time for necessary breaks. In addition, we will reserve a block of time for anyone else in the audience who wants to give testimony. For planning purposes, each speaker should anticipate speaking for approximately ten minutes, although we may need to shorten that time if there is a large turnout. We request that you bring three copies of your statement or other material for the EPA and NHTSA panels. To accommodate as many speakers as possible, we prefer that speakers not use technological aids (e.g., audio-visuals, computer slideshows). However, if you plan to do so, you must notify the contact persons in the FOR FURTHER INFORMATION CONTACT section above. You also must make arrangements to provide your presentation or any other aids to NHTSA and EPA in advance of the hearing in order to facilitate set-up.

NHTSA and EPA will conduct the hearings informally, and technical rules of evidence will not apply. We will arrange for a written transcript of each hearing and keep the official record of each hearing open for 30 days to allow speakers to submit supplementary information. Panel members may ask clarifying questions during the oral presentations, but will not respond to the presentations at that time. You may make arrangements for copies of the transcripts directly with the court reporter. Written statements and supporting information submitted during the comment period will be considered with the same weight as oral comments and supporting information presented at the public hearings. Written comments on the proposal must be postmarked by 60 days after the date of publication of the proposal in the Federal Register.

Dated: October 26, 2010.
Ronald Medford,
Deputy Administrator, National Highway Traffic Safety Administration.
Dated: October 25, 2010.
Margo T. Oge,
Director, Office of Transportation and Air Quality Environmental Protection Agency.

[FR Doc. 2010-27510 Filed 10-29-10; 8:45 am]

BILLING CODE 6560-50-P